ENVIRONMENTAL PROTECTION AGENCY

[FRL-9478-3]

Notice of Tentative Approval and Opportunity for Public Comment and Public Hearing for Public Water System Supervision Program Revision for Maryland

AGENCY: Environmental Protection Agency (EPA).

ACTION: Notice of approval and solicitation of requests for public hearing.

SUMMARY: Notice is hereby given that the State of Maryland is revising its approved Public Water System Supervision Program. Maryland has adopted drinking water regulations for the Long Term 2 Enhanced Surface Water Treatment Rule (LT2), the Lead and Copper Rule Short Term Revisions (LCRSTR), Unregulated Contaminant Monitoring Rule (UCMR) and the Ground Water Rule (GWR). The U.S. Environmental Protection Agency (EPA) has determined that the State rules (i.e., LT2, LCRSTR, UCMR and the GWR) meet all minimum federal requirements, and that they are no less stringent than the corresponding federal regulations. Therefore, EPA has tentatively decided to approve the State program revisions.

DATES: Comments or a request for a public hearing must be submitted by November 14, 2011. This determination shall become final and effective on November 14, 2011, if no timely and appropriate request for a hearing is received and the Regional Administrator does not elect to hold a hearing on his own motion, and if no comments are received which cause EPA to modify its tentative approval.

ADDRESSES: Comments or a request for a public hearing must be submitted to the U.S. Environmental Protection Agency, Region III, 1650 Arch Street, Philadelphia, Pennsylvania 19103-2029. All documents relating to this determination are available for inspection between the hours of 8 a.m. and 4:30 p.m., Monday through Friday, at the following offices:

• Drinking Water Branch, Water Protection Division, U.S. Environmental Protection Agency, Region III, 1650 Arch Street, Philadelphia, Pennsylvania 19103-2029.

• Water Management Administration, Maryland Department of the Environment, 1800 Washington Boulevard, Baltimore, Maryland 21230.

FOR FURTHER INFORMATION CONTACT: Anthony Meadows, Drinking Water Branch (3WP21) at the Philadelphia address given above, or telephone (215) 814-5442 or fax (215) 814-2302.

SUMMARY: All interested parties are invited to submit written comments on this determination and may request a hearing. All comments will be considered and, if necessary, EPA will issue a response. Frivolous or insubstantial requests for a hearing will be denied by the Regional Administrator. If a substantial request for a public hearing is made by MONTH XX, 2011 November 16, 2011, a public hearing will be held. A request for public hearing shall include the following: (1) The name, address, and telephone number of the individual, organization, or other entity requesting a hearing; (2) a brief statement of the requesting person's interest in the Regional Administrator's determination and of information that the requesting person intends to submit at such hearing; and (3) the signature of the individual making the request; or, if the request is made on behalf of an organization or other entity, the signature of a responsible official of the organization or other entity.

Dated: September 29, 2011.
W. C. Early,
Acting Regional Administrator, Region 3.

[FR Doc. 2011-26326 Filed 10-11-11; 8:45 am]

BILLING CODE 6560-50-P